DEPARTMENT OF THE INTERIOR

Bureau of Land Manaement

[AZ-020-00-1430-ES; AZA-31324]

Notice of Realty Action; Recreation and Public Purposes (R&PP) Act Classification: Arizona

AGENCY: Bureau of Land Management, Interior.

ACTION: Notice.

SUMMARY: The following public lands, are located in Maricopa County, Arizona have been examined, and found suitable for lease or conveyance under the provisions of the Recreation and Public Purposes Act, as amended (43 U.S.C. 869, et seq.) The lands are not needed for Federal purposes. Lease or conveyance is consistent with current Bureau of Land Management (BLM) land use planning and owuld be in the public interest.

America's Buffalo Soldiers Re-Enactors Association proposes to use the lands for an educational facility.

Gila and Salt River Meridian, Arizona

T.2 N., R.4 W.

Sec. 1, lots 1 thru 4, S½N½

Containing approximately 320.22 acres.

The lease or conveyance would be subject to the following terms, conditions and reservations:

1. Provisions of the Recreation and Public Purposes Act and all applicable regulations of the Secretary of the Interior.

2. All minerals shall be reserved to the United States, together with the right to prospect for, mine, and remove the minerals.

3. A right-of-way for ditches and canals constructed by the authority of the United States.

FOR FURTHER INFORMATION CONTACT: Hector Abrego at the Phoenix Field Office, 2015 W. Deer Valley Road, Phoenix, Arizona 85027; (623) 580-5674.

SUPPLEMENTARY INFORMATION: Upon publication of this notice in the Federal Register, the lands will be segregated from all other forms of appropriation under the public land laws, including the general mining laws, except for lease or conveyance under the Recreation and Public Purposes Act. For a period of 45 days from the date of publication of this Notice, interested parties may submit comments regarding the proposed lease, conveyance or classification of the lands to the Field Manager, Phoenix Field Office, 2015 W. Deer Valley Road, Phoenix, Arizona 85027.

Classification Comments

Interested parties may submit comments involving the suitability of the land for an educational facility. Comments on the classification are restricted to whether the land is physically suited for the proposal, whether the use will maximize the future use or uses of the land, whether the use is consistent with local planning and zoning, or if the use is consistent with State and Federal programs.

Application Comments

Interested parties may submit comments regarding the specific use proposed in the application and plan of development, whether the BLM followed proper administrative procedures in reaching the decision, or any other factor not directly related to the suitability of the land for an educational facility.

Any adverse comments will be reviewed by the State Director. In the absence of any adverse comments, the classification will become effective 60 days from the date of publication in the Federal Register.

Dated: August 2, 2000.
MarLynn Spears,
Assistant Field Manager, Lands & Minerals.

[FR Doc. 00-20367 Filed 8-10-00; 8:45 am]

BILLING CODE 4310-02-M